DEPARTMENT OF TRANSPORTATION

Federal Aviation Administration

14 CFR Part 39

[Docket No. FAA-2013-1065; Directorate Identifier 2011-NM-230-AD; Amendment 39-17915; AD 2014—15-13]

RIN 2120-AA64

Airworthiness Directives; Bombardier, Inc. Airplanes

AGENCY: Federal Aviation Administration (FAA), Department of Transportation (DOT).

ACTION: Final rule.

SUMMARY: We are superseding Airworthiness Directive (AD) 2005-15-04 for certain Bombardier, Inc. Model CL-600-1A11 (CL-600), CL-600-2A12 (CL-601), and CL-600-2B16 (CL-601-3A, CL-601-3R, and CL-604 Variants) airplanes. AD 2005-15-04 required operators to assign serial numbers or part numbers to certain landing gear parts; establish the number of landings on the parts, if necessary; and revise the Airworthiness Limitations Section (ALS) of the Instructions for Continued Airworthiness (ICA) to reflect the new life limits of the landing gear parts. This new AD adds airplanes to the applicability, requires operators to assign serial numbers or part numbers to certain additional landing gear parts to establish the number of landings on the parts if necessary, and requires operators to record in all required airplane technical records and manuals the new part numbers, serial numbers, and landings assigned to these parts. This AD was prompted by reports that landing gear parts that have safe-life limits but do not have serial numbers or part numbers can be removed from one landing gear and re-installed on another, making tracking difficult. We are issuing this AD to prevent life-limited landing gear parts from being used beyond their safe-life limits, which could lead to collapse of the landing gear.

DATES: This AD becomes effective September 25, 2014.

The Director of the Federal Register approved the incorporation by reference of certain publications listed in this AD as of September 25, 2014.

The Director of the Federal Register approved the incorporation by reference of certain other publications listed in this AD as of August 30, 2005 (70 FR 43032, July 26, 2005).

ADDRESSES: You may examine the AD docket on the Internet at http://www.regulations.gov/#!docketDetail;D=FAA-2013-1065; or in person at the Docket Management Facility, U.S. Department of Transportation, Docket Operations, M-30, West Building Ground Floor, Room W12-140, 1200 New Jersey Avenue SE., Washington, DC.

For Bombardier, Inc./Canadair service information identified in this AD, contact Bombardier, Inc., 400 Côte-Vertu Road West, Dorval, Québec H4S 1Y9, Canada; telephone 514-855-5000; fax 514-855-7401; email thd.crj@aero.bombardier.com; Internet http://www.bombardier.com. For Messier-Dowty service information identified in this AD, contact Messier Services Americas, Customer Support Center, 45360 Severn Way, Sterling, VA 20166-8910; phone: 703-450-8233; fax: 703-404-1621; Internet: https://techpubs.services/messier-dowty.com. You may view this referenced service information at the FAA, Transport Airplane Directorate, 1601 Lind Avenue SW., Renton, WA. For information on the availability of this material at the FAA, call 425-227-1221.

FOR FURTHER INFORMATION CONTACT: Andreas Rambalakos, Aerospace Engineer, Airframe and Mechanical Systems Branch, ANE-171, FAA, New York Aircraft Certification Office, 1600 Stewart Avenue, Suite 410, Westbury, NY 11590; telephone (516) 228-7345; fax (516) 794-5531.

SUPPLEMENTARY INFORMATION:

Discussion

We issued a notice of proposed rulemaking (NPRM) to amend 14 CFR part 39 to supersede AD 2005-15-04, Amendment 39-14193 (70 FR 43032, July 26, 2005). AD 2005-15-04 applied to certain Bombardier, Inc. Model CL-600-1A11 (CL-600), CL-600-2A12 (CL-601), and CL-600-2B16 (CL-601-3A, CL-601-3R, and CL-604 Variants) airplanes. The NPRM published in the Federal Register on December 30, 2013 (78 FR 79329). The NPRM was prompted by reports that landing gear parts that have safe-life limits but do not have serial numbers or part numbers can be removed from one landing gear and re-installed on another, making tracking difficult. The NPRM proposed to add airplanes to the applicability, require operators to assign serial numbers or part numbers to certain additional landing gear parts to establish the number of landings on the parts if necessary, and requires operators to record in all required airplane technical records and manuals the new part numbers, serial numbers, and landings assigned to these parts. We are issuing this AD to prevent life-limited landing gear parts from being used beyond their safe-life limits, which could lead to collapse of the landing gear.

Transport Canada Civil Aviation (TCCA), which is the airworthiness authority for Canada, has issued Canadian Airworthiness Directives CF-2003-18R2, dated September 28, 2011; CF-2003-20R1, dated September 28, 2011; and CF-2003-21R2, dated September 28, 2011 (referred to after this as the Mandatory Continuing Airworthiness Information, or “the MCAI”); to correct an unsafe condition for certain Bombardier, Inc. Model CL-600-1A11 (CL-600), CL-600-2A12 (CL-601), and CL-600-2B16 (CL-601-3A, CL-601-3R, and CL-604 Variants) airplanes. The MCAI states:

Certain landing gear parts that are listed in the aeroplane model Airworthiness Limitations Section, as safe life items with structural life limits, could be rotable and may not have been serialized, making tracking difficult. This [Canadian airworthiness] directive mandates that such parts be serialized. This [Canadian airworthiness] directive also provides the procedure to determine the number of landings for those parts where the service history cannot be established.

* * * * *

[T]his [Canadian Airworthiness] directive * * * mandate[s] serialization of * * * additional landing gear parts.

This AD also adds airplanes to the applicability. The unsafe condition is using life-limited landing gear parts beyond their safe-life limits, which could lead to collapse of the landing gear. You may examine the MCAI in the AD docket on the Internet at http://www.regulations.gov/#!documentDetail;D=FAA-2013-1065-0002.

Comments

We gave the public the opportunity to participate in developing this AD. We received no comments on the NPRM (78 FR 79329, December 30, 2013) or on the determination of the cost to the public.

“Contacting the Manufacturer” Paragraph in This AD

Since late 2006, we have included a standard paragraph titled “Airworthy Product” in all MCAI ADs in which the FAA develops an AD based on a foreign authority's AD.

We have become aware that some operators have misunderstood or misinterpreted the Airworthy Product paragraph to allow the owner/operator to use messages provided by the manufacturer as approval of deviations during the accomplishment of an AD-mandated action. The Airworthy Product paragraph does not approve messages or other information provided by the manufacturer for deviations to the requirements of the AD-mandated actions. The Airworthy Product paragraph only addresses the requirement to contact the manufacturer for corrective actions for the identified unsafe condition and does not cover deviations from other AD requirements. However, deviations to AD-required actions are addressed in 14 CFR 39.17, and anyone may request the approval for an alternative method of compliance to the AD-required actions using the procedures found in 14 CFR 39.19.

To address this misunderstanding and misinterpretation of the Airworthy Product paragraph, we have changed the paragraph and retitled it “Contacting the Manufacturer.” This paragraph now clarifies that for any requirement in this AD to obtain corrective actions from a manufacturer, the actions must be accomplished using a method approved by the FAA, Transport Canada Civil Aviation (TCCA), or Bombardier's TCCA Design Approval Organization (DAO).

The Contacting the Manufacturer paragraph also clarifies that, if approved by the DAO, the approval must include the DAO-authorized signature. The DAO signature indicates that the data and information contained in the document are TCCA-approved, which is also FAA-approved. Messages and other information provided by the manufacturer that do not contain the DAO-authorized signature approval are not TCCA-approved, unless TCCA directly approves the manufacturer's message or other information.

This clarification does not remove flexibility previously afforded by the Airworthy Product paragraph. Consistent with long-standing FAA policy, such flexibility was never intended for required actions. This is also consistent with the recommendation of the Airworthiness Directive Implementation Aviation Rulemaking Committee to increase flexibility in complying with ADs by identifying those actions in manufacturers' service instructions that are “Required for Compliance” with ADs. We continue to work with manufacturers to implement this recommendation. But once we determine that an action is required, any deviation from the requirement must be approved as an alternative method of compliance.

We also have decided not to include a generic reference to either the “delegated agent” or “design approval holder (DAH) with State of Design Authority design organization approval,” but instead we have provided the specific delegation approval granted by the State of Design Authority for the DAH throughout this AD.

Conclusion

We reviewed the available data and determined that air safety and the public interest require adopting this AD with the changes described previously and minor editorial changes. We have determined that these minor changes:

• Are consistent with the intent that was proposed in the NPRM (78 FR 79329, December 30, 2013) for correcting the unsafe condition; and

• Do not add any additional burden upon the public than was already proposed in the NPRM (78 FR 79329, December 30, 2013).

We also determined that these changes will not increase the economic burden on any operator or increase the scope of this AD.

Costs of Compliance

We estimate that this AD affects 419 airplanes of U.S. registry.

The actions that were required by AD 2005-15-04, Amendment 39-14193 (70 FR 43032, July 26, 2005), that are retained in this AD take up to 13 work-hours per product, at an average labor rate of $85 per work hour. Based on these figures, the estimated cost of the currently required actions is up to $1,105 per product.

We estimate that it would take about 9 work-hours per product to comply with the new basic requirements of this AD. The average labor rate is $85 per work-hour. Based on these figures, we estimate the cost of this AD on U.S. operators to be $320,535, or $765 per product.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify that this AD:

1. Is not a “significant regulatory action” under Executive Order 12866;

2. Is not a “significant rule” under the DOT Regulatory Policies and Procedures (44 FR 11034, February 26, 1979);

3. Will not affect intrastate aviation in Alaska; and

4. Will not have a significant economic impact, positive or negative, on a substantial number of small entities under the criteria of the Regulatory Flexibility Act.

Examining the AD Docket

You may examine the AD docket on the Internet at http://www.regulations.gov/#!docketDetail;D=FAA-2013-1065; or in person at the Docket Management Facility between 9 a.m. and 5 p.m., Monday through Friday, except Federal holidays. The AD docket contains this AD, the regulatory evaluation, any comments received, and other information. The street address for the Docket Operations office (telephone 800-647-5527) is in the ADDRESSES section.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by removing Airworthiness Directive (AD) 2005-15-04, Amendment 39-14193 (70 FR 43032, July 26, 2005), and adding the following new AD:

2014-15-13 Bombardier, Inc.: Amendment 39-17915. Docket No. FAA-2013-1065; Directorate Identifier 2011-NM-230-AD.

(a) Effective Date

This AD becomes effective September 25, 2014.

(b) Affected ADs

This AD replaces AD 2005-15-04, Amendment 39-14193 (70 FR 43032, July 26, 2005).

(c) Applicability

This AD applies to Bombardier, Inc. airplanes, certificated in any category, as identified in paragraphs (c)(1) through (c)(4) of this AD.

(1) Model CL-600-1A11 (CL-600) airplanes, serial numbers 1004 through 1085 inclusive.

(2) Model CL-600-2A12 (CL-601) airplanes, serial numbers 3001 through 3066 inclusive;

(3) Model CL-600-2B16 (CL-601-3A and CL-601-3R Variants) airplanes, serial numbers 5001 through 5194 inclusive.

(4) Model CL-600-2B16 (CL-604 Variant) airplanes, serial numbers 5301 through 5573 inclusive, 5579, and 5595.

(5) This AD requires revisions to certain operator maintenance documents to include new actions (e.g., inspections). Compliance with these actions is required by 14 CFR 91.403(c). For airplanes that have been previously modified, altered, or repaired in the areas addressed by this AD, the operator may not be able to accomplish the actions described in the revisions. In this situation, to comply with 14 CFR 91.403(c), the operator must request approval for an alternative method of compliance according to paragraph (r) of this AD. The request should include a description of changes to the required actions that will ensure the continued damage tolerance of the affected structure.

(d) Subject

Air Transport Association (ATA) of America Code 32, Landing Gear.

(e) Reason

This AD was prompted by reports that landing gear parts that have safe-life limits but do not have serial numbers (S/Ns) or part numbers (P/Ns) can be removed from one landing gear and re-installed on another, making tracking difficult. We are issuing this AD to prevent life-limited landing gear parts from being used beyond their safe-life limits, which could lead to collapse of the landing gear.

(f) Compliance

Comply with this AD within the compliance times specified, unless already done.

(g) Retained Requirement To Add S/Ns orP/Ns

This paragraph restates the actions required by paragraph (f) of AD 2005-15-04, Amendment 39-14193 (70 FR 43032, July 26, 2005), with revised affected airplanes. Except for Model CL-600-2B16 airplanes having S/Ns 5514 through 5595 inclusive: At the applicable compliance time specified in paragraph (g)(1), (g)(2), or (g)(3) of this AD, add serial numbers and part numbers, as applicable, to the parts identified in the applicable service bulletin specified in paragraph (g)(1), (g)(2), or (g)(3) of this AD. Do all actions in accordance with the applicable service bulletin specified in paragraph (g)(1), (g)(2), or (g)(3) of this AD.

(1) For parts identified in Bombardier Service Bulletin 600-0710, Revision 01, dated December 15, 2003; and Bombardier Service Bulletin 601-0546, Revision 01, dated December 15, 2003; as having a compliance time of “five years for the parts listed in Part A”: Within 60 months after August 30, 2005 (the effective date of AD 2005-15-04, Amendment 39-14193 (70 FR 43032, July 26, 2005)).

(2) For parts identified in Bombardier Service Bulletin 600-0710, Revision 01, dated December 15, 2003; and Bombardier Service Bulletin 601-0546, Revision 01, dated December 15, 2003; as having a compliance time of “ten years for the parts listed in Part B”: Within 120 months after August 30, 2005 (the effective date of AD 2005-15-04, Amendment 39-14193 (70 FR 43032, July 26, 2005)).

(3) For parts identified in Bombardier Service Bulletin 604-32-014, dated May 31, 2002, as having a compliance time of “no later than a calendar time of 8 years”: Within 96 months after August 30, 2005 (the effective date of AD 2005-15-04, Amendment 39-14193 (70 FR 43032, July 26, 2005)).

Note 1 to paragraph (g) of this AD: The Bombardier service bulletins identified in paragraphs (g)(1), (g)(2), and (g)(3) of this AD refer to the Messier-Dowty service bulletins identified in table 1 to paragraph (g) of this AD as additional sources of guidance for adding part numbers or serial numbers by vibro-peening the numbers on main landing gear (MLG) and nose landing gear (NLG) components that do not have them; and for determining the number of landings for parts without a part number or serial number on which the time since new (TSN) and cycles since new (CSN) have not been tracked.

Table 1 to Paragraph (g) of This AD—Messier-Dowty Service Bulletins
Model— | Landing gear component— | Corresponding bombardier service bulletin(s)— | Messier-Dowty service bulletin—
CL-600-1A11 (CL-600), CL-600-2A12 (CL-601) and CL-600-2B16 (CL-601-3A and CL-601-3R) airplanes | MLG side strut retraction actuator eye bolt | 600-0710 and 601-0546 | M-DT SB104467009/010-32-1, dated March 19, 2001.
CL-600-2B16 (CL-604) airplanes | MLG shock strut | 604-32-014 | M-DT SB19090-32-4, dated March 19, 2001.
CL-600-2B16 (CL-604) airplanes | NLG shock strut | 604-32-014 | M-DT SB20020-32-5, dated July 12, 2001.
CL-600-1A11 (CL-600), CL-600-2A12 (CL-601) and CL-600-2B16 (CL-601-3A and CL-601-3R) airplanes | NLG drag brace hinge pin | 600-0710 and 601-0546 | M-DT SB200814001-32-3, dated March 19, 2001.
CL-600-1A11 (CL-600) airplanes | MLG shock strut | 600-0710 | M-DT SB200922001/2-32-6, dated March 19, 2001.
CL-600-1A11 (CL-600) airplanes | NLG shock strut | 600-0710 | M-DT SB200924003/004-32-16, dated July 12, 2001.
CL-600-2A12 (CL-601) and CL-600-2B16 (CL-601-3A and CL-601-3R) airplanes | MLG shock strut pin | 601-0546 | M-DT SB6100-32-10, dated March 19, 2001.
CL-600-1A11 (CL-600), CL-600-2A12 (CL-601) and CL-600-2B16 (CL-601-3A and CL-601-3R) airplanes | MLG side strut retraction actuator | 600-0710 and 601-0546 | M-DT SB6500-32-1, dated March 19, 2001.
CL-600-1A11 (CL-600), CL-600-2A12 (CL-601) and CL-600-2B16 (CL-601-3A and CL-601-3R) airplanes | NLG drag brace hinge pin | 600-0710 and 601-0546 | M-DT SB7200-32-6, dated March 19, 2001.
CL-600-2A12 (CL-601) and CL-600-2B16 (CL-601-3A and CL-601-3R) airplanes | NLG shock strut | 601-0546 | M-DT SB7300-32-16, dated July 12, 2001.

(h) Retained Requirement—Establishment of the Number of Landings

This paragraph restates the actions required by paragraph (g) of AD 2005-15-04, Amendment 39-14193 (70 FR 43032, July 26, 2005), with revised affected airplanes. Except for Model CL-600-2B16 airplanes having S/Ns 5314 through 5595 inclusive: At the applicable time specified in paragraph (g) of this AD, if a component does not have a serial number and the CSN or TSN were not tracked, use the formula in the applicable Messier-Dowty service bulletin specified in table 1 to paragraph (g) of this AD to establish the TSN or CSN, and record the newly calculated TSN or CSN in the airplane log books.

(i) Retained Requirement To Revise the Airworthiness Limitations Section (ALS)

This paragraph restates the revision required by paragraph (h) of AD 2005-15-04, Amendment 39-14193 (70 FR 43032, July 26, 2005), with revised affected airplanes. Except for Model CL-600-2B16 airplanes having S/Ns 5514 through 5595 inclusive: Within 30 days after August 30, 2005 (the effective date of AD 2005-15-04), revise the ALS of the applicable Instructions for Continued Airworthiness to reflect the new life limits of the landing gear parts by inserting copies of the Canadair temporary revisions (TR) specified in table 2 to paragraph (i) of this AD into the ALS of the applicable Canadair Time-Limits/Maintenance Check Manual. When the contents of the TRs are included in the general revisions of the ALS, these TRs may be removed provided the relevant information in the ALS is identical to that in the TRs.

Table 2 to Paragraph (i) of This AD—Canadair Temporary Revisions
Model— | Canadair temporary revision— | Manual section— | Applicable canadair time-limits/maintenance check manual—
CL-600-1A11 (CL-600) airplanes | 5-116, dated April 11, 2002 | 5-10-10 | PSP 605.
CL-600-2A12 (CL-601) and CL-600-2B16 (CL-601-3A and CL-601-3R) airplanes | 5-190, dated April 11, 2002 | 5-10-10 | PSP 601-5.
CL-600-2A12 (CL-601) and CL-600-2B16 (CL-601-3A and CL-601-3R) airplanes | 5-191, dated April 11, 2002 | 5-10-11 | PSP 601-5.
CL-600-2A12 (CL-601) and CL-600-2B16 (CL-601-3A and CL-601-3R) airplanes | 5-192, dated April 11, 2002 | 5-10-12 | PSP 601-5.
CL-600-2B16 (CL-604) airplanes | 5-2-6, dated April 11, 2002 | 5-10-10 | CL-604.
CL-600-2A12 (CL-601) and CL-600-2B16 (CL-601-3A and CL-601-3R) airplanes | 5-204, dated April 11, 2002 | 5-10-10 | PSP 601A-5.
CL-600-2A12 (CL-601) and CL-600-2B16 (CL-601-3A and CL-601-3R) airplanes | 5-205, dated April 11, 2002 | 5-10-11 | PSP 601A-5.
CL-600-2A12 (CL-601) and CL-600-2B16 (CL-601-3A and CL-601-3R) airplanes | 5-206, dated April 11, 2002 | 5-10-12 | PSP 601A-5.

(j) Retained Parts Installation Limitation

This paragraph restates the limitations specified in paragraph (i) of AD 2005-15-04, Amendment 39-14193 (70 FR 43032, July 26, 2005), with revised affected airplanes. Except for Model CL-600-2B16 airplanes having serial numbers 5514 through 5595 inclusive: As of August 30, 2005 (the effective date of AD 2005-15-04), no person may install on any airplane a landing gear part, unless it has had the applicable part number or serial number added in accordance with paragraph (g) of this AD; and has had the number of landings established in accordance with paragraph (h) of this AD.

(k) Retained Stipulation of Information of No Reporting

This paragraph restates the stipulation specified in paragraph (j) of AD 2005-15-04, Amendment 39-14193 (70 FR 43032, July 26, 2005). Although the service bulletins identified in paragraph (g) of this AD specify that operators should submit incorporation notices to Bombardier after each new part number or serial number and landings assigned to these parts is added, this AD does not include that action.

(l) New Requirement of this AD: Add Serial Numbers and Part Numbers

(1) For Model CL-600-2B16 (CL-604 Variant) airplanes: Within 96 months after the effective date of this AD, add serial numbers and part numbers, as applicable, to the parts identified in paragraphs (l)(1)(i) and (l)(1)(ii) of this AD, as applicable, in accordance with the Accomplishment Instructions of Bombardier Service Bulletin 604-32-014, Revision 02, dated May 9, 2011, including Appendix 1, dated May 9, 2011, and Service Bulletin Information Sheet, dated July 6, 2010.

(i) For airplanes having S/Ns 5301 through 5513 inclusive: Main fitting/drag stay pin of the NLG having P/N 200811721.

(ii) For airplanes having S/Ns 5301 through 5573 inclusive, 5579, and 5595: NLG crossbeam pins having P/N 200814601 and NLG center hinge pins having P/N 200814624.

(2) For Bombardier Model CL-600-2A12 (CL-601) airplanes and Model CL-600-2B16 (CL-601-3A and CL-601-3R Variants) airplanes: Within 60 months after the effective date of this AD, add serial numbers and part numbers, as applicable, to left and right MLG side strut pins having P/N 6318-1 or 6318-3; and to left and right MLG hinge pins having P/N 6329-3; in accordance with the Accomplishment Instructions of Bombardier Service Bulletin 601-0546, Revision 03, dated May 9, 2011, including Appendix 1, dated May 9, 2011, and Service Bulletin Information Sheet, dated July 6, 2010.

(3) For Bombardier Model CL-600-2A12 (CL-601) airplanes and Model CL-600-2B16 (CL-601-3A and CL-601-3R Variants) airplanes: Within 120 months after the effective date of this AD, add serial numbers and part numbers, as applicable, to NLG main fitting/drag stay pins having P/N 200811721; NLG drag brace pivot pins having P/N 200814601; and left and right MLG pintle pins having P/N 6324-1; in accordance with the Accomplishment Instructions of Bombardier Service Bulletin 601-0546, Revision 03, dated May 9, 2011, including Appendix 1, dated May 9, 2011, and Service Bulletin Information Sheet, dated July 6, 2010.

(4) For Bombardier Model CL-600-1A11 (CL-600) airplanes: Within 120 months after the effective date of this AD, add serial numbers and part numbers, as applicable, to NLG main fitting/drag stay pins having P/N 200811721 and NLG drag brace pivot pins having P/N 200814601, in accordance with the Accomplishment Instructions of Bombardier Service Bulletin 600-0710, Revision 03, dated May 9, 2011, including Appendix 1, dated May 9, 2011, and Service Bulletin Information Sheet, dated July 6, 2010.

(m) New Requirement of This AD: Establish the Number of Landings (CSN)

At the applicable times specified in paragraph (l) of this AD: If a component does not have a serial number and the CSN were not tracked, use Appendix 1, dated May 9, 2011, of the applicable service bulletin specified in paragraph (m)(1), (m)(2), or (m)(3) of this AD to establish the number of landings (CSN).

(1) Bombardier Service Bulletin 604-32-014, Revision 02, dated May 9, 2011, including Service Bulletin Information Sheet, dated July 6, 2010 (for Bombardier Model CL-600-2B16 (CL-604 Variant) airplanes).

(2) Bombardier Service Bulletin 601-0546, Revision 03, dated May 9, 2011, including Service Bulletin Information Sheet, dated July 6, 2010 (for Model CL-600-2A12 (CL-601) airplanes and Model CL-600-2B16 (CL-601-3A and CL-601-3R Variants) airplanes).

(3) Bombardier Service Bulletin 600-0710, Revision 03, dated May 9, 2011, including Service Bulletin Information Sheet, dated July 6, 2010 (for Bombardier Model CL-600-1A11 (CL-600) airplanes).

(n) New Requirement of This AD: Records Update

Concurrently with the actions specified in paragraphs (l) and (m) of this AD: Record any newly calculated CSN, new part numbers, and new serial numbers in the airplane technical records and manuals.

(o) New Requirement of This AD: Parts Installation Limitation

As of the effective date of this AD, no person may install on any airplane a landing gear part identified in paragraph (l) of this AD, unless it has had the applicable part number or serial number added as required by paragraph (l) of this AD, and had the CSN established as required by paragraph (m) of this AD.

(p) New Action of This AD: Optional Method of Compliance

Accomplishing the action required by paragraph (g) of this AD, in accordance with the Accomplishment Instructions of the applicable service bulletin specified in paragraph (p)(1), (p)(2), or (p)(3) of this AD, is acceptable for compliance with the requirements of paragraph (g) of this AD.

(1) Bombardier Service Bulletin 601-0546, Revision 03, dated May 9, 2011, including Appendix 1, dated May 9, 2011, and Service Bulletin Information Sheet, dated July 6, 2010 (for Model CL-600-2A12 (CL-601) airplanes and Model CL-600-2B16 (CL-601-3A and CL-601-3R Variants) airplanes).

(2) Bombardier Service Bulletin 604-32-014, Revision 02, dated May 9, 2011, including Appendix 1, dated May 9, 2011, and Service Bulletin Information Sheet, dated July 6, 2010 (for Model CL-600-2B16 (CL-604 Variant) airplanes).

(3) Bombardier Service Bulletin 600-0710, Revision 03, dated May 9, 2011, including Appendix 1, dated May 9, 2011, and Service Bulletin Information Sheet, dated July 6, 2010 (for Model CL-600-1A11 (CL-600) airplanes).

(q) Credit for Previous Actions

(1) This paragraph provides credit for the actions required by paragraph (g) of this AD, if those actions were performed before August 30, 2005 (the effective date of AD 2005-15-04, Amendment 39-14193 (70 FR 43032, July 26, 2005)), using the applicable service bulletin specified in paragraph (q)(1)(i), (q)(1)(ii), or (q)(1)(iii) of this AD, which are not incorporated by reference in this AD.

(i) Bombardier Service Bulletin 601-0546, dated May 31, 2002 (for Model CL-600-2A12 (CL-601) airplanes and Model CL-600-2B16 (CL-601-3A and CL-601-3R Variants) airplanes).

(ii) Bombardier Service Bulletin 600-0710, dated May 31, 2002 (for ModelCL-600-1A11 (CL-600) airplanes).

(iii) Bombardier Service Bulletin 604-32-014, dated May 31, 2002 (for Model CL-600-2B16 (CL-604 Variant) airplanes).

(2) This paragraph provides credit for the addition of serial numbers and part numbers required by paragraph (l) of this AD, if those actions were performed before the effective date of this AD using the applicable service bulletin specified in paragraph (q)(2)(i), (q)(2)(ii), or (q)(2)(iii) of this AD, which are not incorporated by reference in this AD.

(i) Bombardier Service Bulletin 604-32-014, Revision 01, dated October 29, 2007 (for Bombardier Model CL-600-2B16 (CL-604 Variant) airplanes).

(ii) Bombardier Service Bulletin 601-0546, Revision 02, dated October 29, 2007 (for Model CL-600-2A12 (CL-601) airplanes and Model CL-600-2B16 (CL-601-3A and CL-601-3R Variants) airplanes).

(iii) Bombardier Service Bulletin 600-0710, Revision 02, dated October 29, 2007 (for Bombardier Model CL-600-1A11 (CL-600) airplanes).

(3) This paragraph provides credit for the establishment of the CSN required by paragraph (m) of this AD, if those actions were performed before the effective date of this AD using the applicable service bulletin information sheet specified in paragraph (q)(3)(i), (q)(3)(ii), or (q)(3)(iii) of this AD.

(i) Service Bulletin Information Sheet, dated July 6, 2010, of Bombardier Service Bulletin 604-32-014, Revision 01, dated October 29, 2007 (for Bombardier Model CL-600-2B16 (CL-604 Variant) airplanes).

(ii) Service Bulletin Information Sheet, dated July 6, 2010, of Bombardier Service Bulletin 601-0546, Revision 02, dated October 29, 2007 (for Bombardier Model CL-600-2A12 (CL-601) and Model CL-600-2B16 (CL-601-3A and CL-601-3R Variants) airplanes).

(iii) Service Bulletin Information Sheet, dated July 6, 2010, of Bombardier Service Bulletin 600-0710, Revision 02, dated October 29, 2007 (for Bombardier Model CL-600-1A11 (CL-600) airplanes).

(r) Other FAA AD Provisions

The following provisions also apply to this AD:

(1) Alternative Methods of Compliance (AMOCs): The Manager, New York Aircraft Certification Office (ACO), ANE-170, FAA, has the authority to approve AMOCs for this AD, if requested using the procedures found in 14 CFR 39.19. In accordance with 14 CFR 39.19, send your request to your principal inspector or local Flight Standards District Office, as appropriate. If sending information directly to the ACO, send it to ATTN: Program Manager, Continuing Operational Safety, FAA, New York ACO, 1600 Stewart Avenue, Suite 410, Westbury, NY 11590; telephone 516-228-7300; fax 516-794-5531. Before using any approved AMOC, notify your appropriate principal inspector, or lacking a principal inspector, the manager of the local flight standards district office/certificate holding district office. The AMOC approval letter must specifically reference this AD. AMOCs approved previously in accordance with AD 2005-15-04, Amendment 39-14193 (70 FR 43032, July 26, 2005), are approved as AMOCs for the corresponding provisions of this AD.

(2) Contacting the Manufacturer: For any requirement in this AD to obtain corrective actions from a manufacturer, the action must be accomplished using a method approved by the Manager, New York ACO, ANE-170, Engine and Propeller Directorate, FAA; or Transport Canada Civil Aviation (TCCA); or Bombardier, Inc.'s TCCA Design Approval Organization (DAO). If approved by the DAO, the approval must include the DAO-authorized signature.

(s) Related Information

(1) Refer to Mandatory Continuing Airworthiness Information (MCAI) Canadian Airworthiness Directives specified in paragraphs (s)(1)(i), (s)(1)(ii), and (s)(1)(iii) of this AD for related information. You may examine the MCAI in the AD docket on the Internet at http://www.regulations.gov/#!documentDetail;D=FAA-2013-1065-0002.

(i) Canadian Airworthiness Directive CF-2003-18R2, dated September 28, 2011.

(ii) Canadian Airworthiness Directive CF-2003-20R1, dated September 28, 2011.

(iii) Canadian Airworthiness Directive CF-2003-21R2, dated September 28, 2011.

(2) Service information identified in this AD that is not incorporated by reference in this AD may be obtained at the addresses specified in paragraphs (t)(5) and (t)(6) of this AD.

(t) Material Incorporated by Reference

(1) The Director of the Federal Register approved the incorporation by reference (IBR) of the service information listed in this paragraph under 5 U.S.C. 552(a) and 1 CFR part 51.

(2) You must use this service information as applicable to do the actions required by this AD, unless this AD specifies otherwise.

(3) The following service information was approved for IBR on September 25, 2014.

(i) Bombardier Service Bulletin 600-0710, Revision 03, dated May 9, 2011, including Appendix 1, dated May 9, 2011, and Service Bulletin Information Sheet, dated July 6, 2010.

(ii) Bombardier Service Bulletin 601-0546, Revision 03, dated May 9, 2011, including Appendix 1, dated May 9, 2011, and Service Bulletin Information Sheet, dated July 6, 2010.

(iii) Bombardier Service Bulletin 604-32-014, Revision 02, dated May 9, 2011, including Appendix 1, dated May 9, 2011, and Service Bulletin Information Sheet, dated July 6, 2010.

(4) The following service information was approved for IBR on August 30, 2005 (70 FR 43032, July 26, 2005).

(i) Bombardier Service Bulletin 600-0710, Revision 01, dated December 15, 2003.

(ii) Bombardier Service Bulletin 601-0546, Revision 01, dated December 15, 2003.

(iii) Bombardier Service Bulletin 604-32-014, dated May 31, 2002.

(iv) Canadair Temporary Revision 5-116, dated April 11, 2002.

(v) Canadair Temporary Revision 5-190, dated April 11, 2002.

(vi) Canadair Temporary Revision 5-191, dated April 11, 2002.

(vii) Canadair Temporary Revision 5-192, dated April 11, 2002.

(viii) Canadair Temporary Revision 5-2-6, dated April 11, 2002.

(ix) Canadair Temporary Revision 5-204, dated April 11, 2002.

(x) Canadair Temporary Revision 5-205, dated April 11, 2002.

(xi) Canadair Temporary Revision 5-206, dated April 11, 2002.

(xii) Messier-Dowty Service Bulletin M-DT SB104467009/010-32-1, dated March 19, 2001.

(xiii) Messier-Dowty Service Bulletin M-DT SB19090-32-4, dated March 19, 2001.

(xiv) Messier-Dowty Service Bulletin M-DT SB20020-32-5, dated July 12, 2001.

(xv) Messier-Dowty Service Bulletin M-DT SB200814001-32-3, dated March 19, 2001.

(xvi) Messier-Dowty Service Bulletin M-DT SB200922001/2-32-6, dated March 19, 2001.

(xvii) Messier-Dowty Service Bulletin M-DT SB200924003/004-32-16, dated July 12, 2001.

(xviii) Messier-Dowty Service Bulletin M-DT SB6100-32-10, dated March 19, 2001.

(xix) Messier-Dowty Service Bulletin M-DT SB6500-32-1, dated March 19, 2001.

(xx) Messier-Dowty Service Bulletin M-DT SB7200-32-6, dated March 19, 2001.

(xxi) Messier-Dowty Service Bulletin M-DT SB7300-32-16, dated July 12, 2001.

(5) For Bombardier, Inc./Canadair service information identified in this AD, contact Bombardier, Inc., 400 Côte-Vertu Road West, Dorval, Québec H4S 1Y9, Canada; telephone 514-855-5000; fax 514-855-7401; email thd.crj@aero.bombardier.com; Internet http://www.bombardier.com. For Messier-Dowty service information identified in this AD, contact Messier Services Americas, Customer Support Center, 45360 Severn Way, Sterling, VA 20166-8910.

(6) You may view this service information at the FAA, Transport Airplane Directorate, 1601 Lind Avenue SW., Renton, WA. For information on the availability of this material at the FAA, call 425-227-1221.

(7) You may view this service information that is incorporated by reference at the National Archives and Records Administration (NARA). For information on the availability of this material at NARA, call 202-741-6030, or go to: http://www.archives.gov/federal-register/cfr/ibr-locations.html.

Issued in Renton, Washington, on July 17, 2014.
John P. Piccola,
Acting Manager, Transport Airplane Directorate, Aircraft Certification Service.

[FR Doc. 2014-17549 Filed 8-20-14; 8:45 am]

BILLING CODE 4910-13-P